DEPARTMENT OF ENERGY

Office of Science; Fusion Energy Sciences Advisory Committee

AGENCY: Department of Energy.

ACTION: Notice of open meeting.

SUMMARY: This notice announces a meeting of the Fusion Energy Sciences Advisory Committee. The Federal Advisory Committee Act (Pub. L. 92-463, 86 Stat. 770) requires that public notice of these meetings be announced in the Federal Register.

DATES: Thursday, July 16, 2007, 8:30 a.m. to 6 p.m. and Friday, July 17, 2007, 8:30 a.m. to noon.

ADDRESSES: The Gaithersburg Hilton, 620 Perry Parkway, Gaithersburg, Maryland 20878, USA.

FOR FURTHER INFORMATION CONTACT: Albert L. Opdenaker, Office of Fusion Energy Sciences; U.S. Department of Energy; 1000 Independence Avenue, SW., Washington, DC 20585-1290; Telephone: 301-903-4927.

SUPPLEMENTARY INFORMATION: Purpose of the Meeting: The major purposes of the meeting are for the Fusion Energy Sciences Advisory Committee (FESAC) members to hear (1) from DOE about the status of the FY 2008 Budget, (2) a report on the results from the Workshop on the Fusion Simulation Project, (3) a report on the National Academy of Sciences Decadal Study on Plasma Physics, (4) a report from the High Energy Density Laser Physics workshop, and (5) an update on the ITER Project in the U.S.

Tentative Agenda:

Monday, July 16, 2007

• Office of Science Perspective

• Report from the Workshop on the Fusion Simulation Project

• Report on the National Academy of Sciences decadal assessment on the field of plasma science and engineering

• Discussion of the new charge

• Public Comments

Tuesday, July 17, 2007

• Status of U.S. ITER Project

• High Energy Density Physics: Report from the Workshop

• Fusion Simulation Project: Report from the Workshop

Public Participation: The meeting is open to the public. If you would like to file a written statement with the Committee, you may do so either before or after the meeting. If you would like to make oral statements regarding any of the items on the agenda, you should contact Albert L. Opdenaker at 301-903-8584 (fax) or albert.opdenaker@science.doe.gov (e-mail). You must make your request for an oral statement at least 5 business days before the meeting. Reasonable provision will be made to include the scheduled oral statements on the agenda. The Chairperson of the Committee will conduct the meeting to facilitate the orderly conduct of business. Public comment will follow the 10-minute rule.

Minutes: We will make the minutes of this meeting available for public review and copying within 30 days at the Freedom of Information Public Reading Room, IE-190, Forrestal Building, 1000 Independence Avenue, SW., Washington, DC, between 9 a.m. and 4 p.m., Monday through Friday, except Federal holidays.

Issued at Washington, DC, on June 21, 2007.
Rachel M. Samuel,
Deputy Advisory Committee Management Officer .

[FR Doc. E7-12322 Filed 6-25-07; 8:45 am]

BILLING CODE 6450-01-P